DEPARTMENT OF THE INTERIOR

Bureau of Land Management

[LLWO220000.L10200000.PH0000.00000000; OMB Control Number 1004-0019]

Notice of Proposed Information Collection for 1004-0019

AGENCY: Bureau of Land Management, Interior.

ACTION: 60-day notice and request for comments.

SUMMARY: In compliance with the Paperwork Reduction Act of 1995, the Bureau of Land Management (BLM) is announcing its intention to request approval to continue the collection of information from individuals, households, farms, and businesses interested in cooperating with the BLM in constructing or maintaining range improvement projects to aid in handling and caring for domestic livestock authorized by the BLM to graze on public lands. This information collection activity was previously approved by the Office of Management and Budget (OMB), and assigned control number 1004-0019.

DATES: Comments on the proposed information collection must be received by March 26, 2010, to be assured of consideration.

ADDRESSES: Comments may be mailed to U.S. Department of the Interior, Bureau of Land Management, Mail Stop 401-LS, 1849 C St., NW, Washington, DC 20240. Comments may also be submitted electronically to Jean_Sonneman@blm.gov. Please attach “Attn: 1004-0019” to either form of comment.

FOR FURTHER INFORMATION CONTACT: To receive a copy of the information collection request, contact Richard Mayberry, Rangeland Resources Division, at 202-912-7229 (Commercial or FTS). Persons who use a telecommunication device for the deaf (TDD) may call the Federal Information Relay Service (FIRS) on 1-800-877-8339, to contact Mr. Mayberry.

SUPPLEMENTARY INFORMATION: OMB regulations at 5 CFR 1320, which implement provisions of the Paperwork Reduction Act 44 U.S.C. 3501-3521), require that interested members of the public and affected agencies be given an opportunity to comment on information collection and recordkeeping activities (see 5 CFR 1320.8 (d) and 1320.12(a)). This notice identifies an information collection that the BLM will be submitting to OMB for approval. The PRA (44 U.S.C. 3501, et seq.) provides that an agency may not conduct or sponsor a collection of information unless it displays a currently valid OMB control number. Until OMB approves a collection of information, you are not obligated to respond. This collection is contained in 43 CFR subpart 4120, Grazing Management. The BLM will request a 3-year term of approval for this information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the submission to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: 43 CFR subpart 4120, Grazing Management.

Forms:

• Form 4120-6, Cooperative Range Improvement Agreement; and

• Form 4120-7, Range Improvement Permit.

OMB Control Number: 1004-0019.

Summary: Section 4 of the Taylor Grazing Act (43 U.S.C. 315c) authorizes the BLM to enter into cooperative agreements, and to issue permits, to construct fences, wells, reservoirs, and other improvements necessary for the management and care of permitted livestock on grazing allotments. The BLM implements this statutory authority in accordance with regulations at 43 CFR subpart 4120. The information collected under these regulations enables the BLM to make decisions regarding proposed range improvement projects. Responses are required to obtain a benefit.

Frequency of Collection: On occasion.

Estimated Number and Description of Respondents: Approximately 712 applications for cooperative agreement or permits for range improvements, submitted primarily by holders of grazing permits and/or leases.

Estimated Reporting and Recordkeeping “Hour” Burden: The currently approved annual reporting burden for this collection is 4,348 hours. The following chart details the individual components and respective hour burden estimates of this information collection request:

Type of response | Number of responses | Hours per response | Total annual burden hours
Form 4120-6, Cooperative Range Improvement Agreement and related nonform information | 693 | 6 | 4,158
Form 4120-7, Range Improvement Permit and related nonform information | 19 | 10 | 190
Totals | 712 |  | 4,348

Jean Sonneman,
Acting Information Collection Clearance Officer, Bureau of Land Management.

[FR Doc. 2010-1376 Filed 1-22-10; 8:45 am]

BILLING CODE 4310-84-P